DEPARTMENT OF DEFENSE

Department of the Army, Corps of Engineers

Intent To Prepare a Supplemental Environmental Impact Statement (SEIS) for PacRim Coal's Proposed Chuitna Coal Project

AGENCY: U.S. Army Corps of Engineers, DoD.

ACTION: Notice of Intent.

SUMMARY: The Alaska District, U.S. Army Corps of Engineers (USACE) intends to prepare an SEIS to identify and analyze the potential impacts associated with the proposed Chuitna Coal Project. It is anticipated that the Environmental Protection Agency (EPA), the Native Village of Tyonek (NVT), the U.S. Fish and Wildlife Service (USFWS), and the Alaska Department of Natural Resources (ADNR) will participate as cooperating agencies in the SEIS development process. The USACE will be evaluating a permit application for work under Section 10 of the Rivers and Harbors Act and Section 404 of the Clean Water Act. The SEIS will be used as a basis for the Corps' permit decision and to ensure compliance with the National Environmental Policy Act (NEPA). The SEIS will also address issues related to the Alaska Surface Coal Mining Control and Reclamation Act (ASCMCRA) permit, which governs all aspects of the mining operation and infrastructure.

FOR FURTHER INFORMATION CONTACT: Questions about the proposed action and the DSEIS can be answered by: Ms. Serena Sweet, Regulatory Division, telephone: (907) 753-2819, toll free in AK: (800) 478-2712, fax: (907) 753-5567, e-mail: serena.e.sweet@usace.army.mil, or mail: U.S. Army Corps of Engineers, CEPOA-RD, Post Office Box 6898, Elmendorf AFB, Alaska 99506-0898.

SUPPLEMENTARY INFORMATION:

1. The Chuitna Coal Project (Project) is located in the Beluga Coal Field, approximately 10 miles northwest of the Native Village of Tyonek and 45 miles west of Anchorage, Alaska. The Project is based on the development of a +1 billion metric ton, ultra low sulfur sub-bituminous coal resource located within the Chuitna Coal Lease Area. The proposed Project includes a surface coal mine, the Ladd Landing coal export terminal and other associated support facilities (including: Shop/office/warehouse facility, fuel storage facility and fueling station, ready line for parking and fueling of rolling stock, electrical substation, truck dump with stilling shed and coal crusher, 35,000 to 40,000‐ton covered surge bin, overland conveyor loading station, roads, and a power distribution system). The project proponent, PacRim Coal, LP, targets a coal production rate of approximately 12 million tons per year (facilities are designed for up to 18-20 million tons per year), and a 25-year mine life based on current estimated coal reserves.

2. A previous project design was evaluated in an EIS and permitted by most of the applicable State and Federal regulatory programs in the early 1990s; however, this project did not proceed to development. Since 2006, EPA has been lead federal agency for the development of an SEIS for the Project and the USACE, ADNR, USFWS and NVT participated as cooperating agencies (71 FR 33446). On October 31, 2010, the EPA's authority to issue and enforce mining permits in Alaska for wastewater discharges issued under the Clean Water Act National Pollutant Discharge Elimination System program was transferred to the Alaska Department of Environmental Conservation. Consequently, the EPA recently discontinued their role as lead federal agency for the Chuitna SEIS.

3. Alternatives: The alternatives to be evaluated include the “no-action” alternative, wastewater discharge alternatives and alternative discharge locations. In addition, the SEIS will evaluate mine access road and conveyor alignment alternatives, and coal export terminal alternatives. Additional alternatives may be developed.

4. Scoping for the proposed project was completed by EPA in 2006. Based on the comments received during this scoping period, PacRim Coal, LP has made revisions to the proposed Project. In accordance with NEPA, the Corps has reviewed the revised project description and determined that because these revisions are the result of the original scoping process and remain within the original scope of review, additional scoping processes will not be conducted at this time.

5. Estimated Date of DSEIS Release: December 2011.

Dated: December 28, 2010.
Serena E. Sweet,
Project Manager, Alaska District U.S. Army Corps of Engineers.

[FR Doc. 2010-33214 Filed 1-3-11; 8:45 am]

BILLING CODE 3720-58-P